DEPARTMENT OF DEFENSE

Office of the Secretary

Strategic Environmental Research and Development Program Scientific Advisory Board; Notice of Federal Advisory Committee Meeting

AGENCY: Under Secretary of Defense for Acquisition Technology and Logistics, Department of Defense.

ACTION: Notice of Federal Advisory Committee meeting.

SUMMARY: The Department of Defense (DoD) is publishing this notice to announce that the following Federal Advisory Committee meeting of the Strategic Environmental Research and Development Program Scientific Advisory Board will take place.

DATES: 1st meeting: Open to the public Tuesday, October 17, from 8:30 a.m. to 4:50 p.m. 2nd meeting: Day 1—Open to the public Wednesday, October 18, 2017, from 8:30 a.m. to 4:40 p.m. Day 2—Open to the public Thursday, October 19, 2017, from 8:30 a.m. to 4:55 p.m.

ADDRESSES: The address for both meetings is the Potomac Institute for Policy Studies, 901 North Stuart Street, Suite 200, Arlington, VA 22203.

FOR FURTHER INFORMATION CONTACT: Herb Nelson, 571-372-6400 (Voice), herbert.h.nelson10.civ@mail.mil (Email). Mailing address is SERDP Office, 4800 Mark Center Drive, Suite 17D08, Alexandria, VA 22350-3605. Web site: https://www.serdp-estcp.org/About-SERDP-and-ESTCP/About-SERDP/Scientific-Advisory-Board. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150. This notice is published in accordance with Section 10(a)(2) of the Federal Advisory Committee Act (Pub. L. 92-463).

Purpose of the Meeting: The purpose of both the October 17, 2017 and the October 18-19, 2017 meetings are to review new start research and development projects requesting Strategic Environmental Research and Development Program funds as required by the SERDP Statute, U.S. Code—Title 10, Subtitle A, Part IV, Chapter 172, 2904.

Agenda: Tuesday, October 17, 2017: 8:30 a.m. Convene/Opening Remarks Approval of September 2017 Minutes—Dr. Joseph Hughes, Chair; 8:40 a.m. Program Update—Dr. Herb Nelson, Acting Executive Director; 9:00 a.m. Environmental Restoration Overview—Dr. Andrea Leeson, Environmental Restoration Program Manager; 9:10 a.m. ER18-C1-1259 (ER18-1259): A Mechanistic Understanding of PFASs in Source Zones: Characterization and Control (FY18 New Start)—Dr. Jennifer Field, Oregon State University; 9:55 a.m. ER18-C1-1204 (ER18-1204): Insights into the Long-Term Mass Discharge & Transformation of AFFF in the Unsaturated Zone (FY18 New Start)—Dr. Charles Schaefer, CDM Smith; 10:40 a.m. Break; 10:55 a.m. ER18-C1-1280 (ER18-1280): Evaluating the Importance of Precursor Transport and Transformation for Groundwater Contamination with Poly- and Perfluoroalkyl Substances (FY18 New Start)—Dr. Elsie Sunderland, Harvard University; 11:40 a.m. ER18-C2-1063 (ER18-1063): Regenerable Resin Sorbent Technologies with Regenerant Solution Recycling for Sustainable Treatment of Per- and Polyfluoroalkyl Substances (PFASs) (FY18 New Start)—Dr. Timothy Strathmann, Colorado School of Mines; 12:25 p.m. Lunch; 1:25 p.m. Environmental Restoration Overview—Dr. Andrea Leeson, Environmental Restoration Program Manager; 1:35 p.m. ER18-C1-1149 (ER18-1149): Development and Laboratory Validation of Mathematical Modeling Tools for Prediction of PFAS Transformation, Transport, and Retention in AFFF Source Areas (FY18 New Start)—Dr. Linda Abriola, Tufts University; 2:20 p.m. ER18-C2-1027 (ER18-1027): Ex Situ Treatment of PFAS Contaminated Groundwater Using Ion Exchange with Regeneration (FY18 New Start)—Dr. Mark Fuller, Aptim Federal Services; 3:05 p.m. Break; 3:20 p.m. ER18-C2-1289 (ER18-1289): Treatment of Legacy and Emerging Fluoroalkyl Contaminants in Groundwater with Integrated Approaches: Rapid and Regenerable Adsorption and UV-Induced Defluorination (FY18 New Start)—Dr. Jinyong Liu, UC Riverside; 4:05 p.m. ER18-C2-1306 (ER18-1306): Combined In Situ/Ex Situ Treatment Train for Remediation of Per- and Polyfluoroalkyl Substance (PFAS) Contaminated Groundwater (FY18 New Start)—Dr. Michelle Crimi, Clarkson University; 4:50 p.m. Public Discussion/Adjourn for the day. Wednesday, October 18, 2017: 8:30 a.m. Convene—Dr. Joseph Hughes, Chair; 8:40 a.m. Environmental Restoration Overview—Dr. Andrea Leeson, Environmental Restoration Program Manager; 8:50 a.m. ER-C2-1026 (ER18-1026): Rational Design and Implementation of Novel Polymer Adsorbents for Selective Uptake of Per- and Polyfluoroalkyl Substances From Groundwater—Dr. Damian Helbling, Cornell University; 9:35 a.m. Resource Conservation and Resiliency Overview—Dr. Kurt Preston, Resource Conservation and Resiliency Program Manager; 9:45 a.m. RC18-C2-1006 (RC18-1006): Understanding and Assessing Riparian Habitat Vulnerability to Drought-Prone Climate Regimes on DoD Bases in the Southwestern USA (FY18 New Start)—Dr. Michael Singer, UC Santa Barbara; 10:30 a.m. Break; 10:45 a.m. RC18-C2-1346 (RC18-1346): Climate-Driven Landscape Disturbance Assessment (FY18 New Start)—Dr. Adam Atchley, Los Alamos National Laboratory; 11:30 a.m. RC18-C2-1183 (RC18-1183): Resiliency and Vulnerability of Boreal Forest Habitat to the Interaction of Climate and Fire Disturbance across DoD Lands of Interior Alaska (FY18 New Start)—Dr. Scott Goetz, Northern Arizona University; 12:15 p.m. Lunch; 1:15 p.m. RC18-C2-1322 (RC18-1322): Forecasting Dryland Ecosystem Vulnerability to Change: A Cross-system Assessment of Vegetation and Process Responses to Disturbance and Climate Variability on DoD Lands (FY18 New Start)—Dr. Scott Ferrenberg, United States Geological Survey; 2:00 p.m. RC18-C2-1021 (RC18-1021): Using Unmanned Aerial Systems to Model Spatially-Mediated Heterogeneity in 3D Microclimate Landscapes (FY18 New Start)—Dr. Anna Carter, Iowa State University; 2:45 p.m. Break; 3:00 p.m. RC18-C2-1108 (RC18-1108): Aquatic Ecosystem Vulnerability to Fire and Climate Change in Alaskan Boreal Forests (FY18 New Start)—Dr. Jeffrey Falke, United States Geological Survey; 3:45 p.m. Resource Conservation and Resiliency Overview—Dr. Kurt Preston, Resource Conservation and Resiliency Program Manager; 3:55 p.m. RC18-C1-1358 (RC18-1358): Using Remotely-sensed Data and Light-level Geolocator Technology to Inform Off-Post Landscape-Scale Conservation Planning for a Migratory Species (FY18 New Start)—Dr. Ashley Long, Texas A&M AgriLife Research; 4:40 p.m. Public Discussion/Adjourn for the day.

Thursday, October 19, 2017: 8:30 a.m.: Convene—Dr. Joseph Hughes, Chair; 8:40 a.m. Weapons Systems and Platforms Overview—Dr. Robin Nissan, WP Program Manager; 8:50 a.m. WP18-C4-1047 (WP18-1047): Development of an Agile, Novel Expeditionary Battlefield Manufacturing Plant using Recycled and Reclaimed Thermoplastic Materials (FY18 New Start)—Dr. Prabhat Krishnaswamy, Engineering Mechanics Corporation of Columbus; 9:35 a.m. WP18-C4-1323 (WP18-1323): Recycling and Reuse of Metal Alloys by a Single Solid-State Additive Manufacturing and Repair Process (FY18 New Start)—Dr. Paul Allison, University of Alabama; 10:20 a.m. Break; 10:35 a.m. Weapons Systems and Platforms Overview—Dr. Robin Nissan, WP Program Manager; 10:45 a.m. WP18-C1-1114 (WP18-1114): Emulsion Characterization Study for Improved Bilgewater Treatment and Management (FY18 New Start)—Ms. Danielle Paynter, Naval Surface Warfare Center; 11:30 a.m. Weapons Systems and Platforms Overview—Dr. Robin Nissan, WP Program Manager; 11:40 a.m. WP18-C3-1193 (WP18-1193): An Integral Hypergolic Hybrid-Solid Fuel Ramjet Concept for AP-Free High Performance Tactical Rocket Motors (FY18 New Start)—Dr. Mark Pfeil, U.S. Army Aviation & Missile Research, Development, and Engineering Center; 12:25 p.m. Lunch; 1:25 p.m. Weapons Systems and Platforms Overview—Dr. Robin Nissan, WP Program Manager; 1:35 p.m. WP18-F2-1439 (WP18-1439) Development and Evaluation of Non-Chromate LHE ZnNi Passivations for DoD Electrical Connectors (Follow-on to FY15 SEED Project)—Dr. Matthew O'Keefe, Missouri S&T; 2:20 p.m. Munitions Response Overview—Dr. Herbert Nelson, Munitions Response Program Manager; 2:30 p.m. MR18-C1-1233 (MR18-1233): Improved Penetrometer Performance in Stratified Sediment for Cost-Effective Characterization, Monitoring and Management of Submerged Munitions Sites (FY18 New Start)—Dr. Nina Stark, Virginia Tech; 3:15 p.m. Break; 3:30 p.m. Environmental Restoration Overview—Dr. Andrea Leeson, ER Program Manager; 3:40 p.m. ER-2531: Role of Acidophilic Methanotrophs in Long Term Natural Attenuation of VOCs in Low pH Aquifers (Follow On to FY15 Limited Scope Project)—Dr. Paul Hatzinger, Aptim Federal Services; 4:25 p.m. Strategy Session—Dr. Herb Nelson, Acting Executive Director; 4:55 p.m. Public Discussion/Adjourn.

Meeting Accessibility: The meeting location has proper and working facilities for those with disabilities. Please contact the Designated Federal Officer (DFO) if there are any issues.

Written Statements: Pursuant to 41 CFR 102-3.140, and section 10(a)(3) of the Federal Advisory Committee Act of 1972, the public or interested organizations may submit written statements to the Strategic Environmental Research and Development Program, Scientific Advisory Board. Written statements may be submitted to the committee at any time or in response to an approved meeting agenda. All written statements shall be submitted to the DFO for the Strategic Environmental Research and Development Program, Scientific Advisory Board. The DFO will ensure that the written statements are provided to the membership for their consideration. Time is allotted at the close of each meeting day for the public to make comments.

Dated: September 15, 2017.
Aaron Siegel,
Alternate OSD Federal Register Liaison Officer, Department of Defense.

[FR Doc. 2017-20011 Filed 9-19-17; 8:45 am]

BILLING CODE 5001-06-P